SECURITIES AND EXCHANGE COMMISSION

[Release No. 66667; March 28, 2012]

Securities Exchange Act of 1934; In the Matter of the NASDAQ Stock Market LLC; Order Granting Petition for Review and Scheduling Filing of Statements

Pursuant to Rule 431 of the Rules of Practice,¹ it is ordered that the petition of The NASDAQ Stock Market LLC for review of the order disapproving by delegated authority File No. SR-NASDAQ-2011-010 ² is granted.

¹ 17 CFR 201.431.

² See Securities Exchange Act Release No. 65362 (September 20, 2011), 76 FR 59466 (September 26, 2011).

It is ordered, pursuant to Rule 431 that any party or other person may file a statement in support of or in opposition to the action made by delegated authority on or before April 18, 2012.

By the Commission.
Elizabeth M. Murphy,
Secretary.

[FR Doc. 2012-7901 Filed 4-2-12; 8:45 am]

BILLING CODE 8011-01-P